DEPARTMENT OF THE INTERIOR

National Park Service

[DOI-2021-0005; PPWOPPFLL0/PS.SPPFL0085.00.1]

Privacy Act of 1974; System of Records

AGENCY: National Park Service, Interior.

ACTION: Rescindment of a system of records notice.

SUMMARY: The Department of the Interior (DOI) is issuing a public notice of its intent to rescind the National Park Service (NPS) Privacy Act system of records, INTERIOR/NPS-3, Land Acquisition Management Information System and Master Deed Listing, and removing it from its existing inventory.

DATES: These changes take effect on November 4, 2021.

ADDRESSES: You may send comments identified by docket number [DOI-2021-0005] by any of the following methods:

• Federal eRulemaking Portal: http://www.regulations.gov. Follow the instructions for sending comments.

• Email: DOI_Privacy@ios.doi.gov. Include docket number [DOI-2021-0005] in the subject line of the message.

• U.S. Mail or Hand-Delivery: Teri Barnett, Departmental Privacy Officer, U.S. Department of the Interior, 1849 C Street NW, Room 7112, Washington, DC 20240.

Instructions: All submissions received must include the agency name and docket number [DOI-2021-0005]. All comments received will be posted without change to http://www.regulations.gov, including any personal information provided.

Docket: For access to the docket to read background documents or comments received, go to http://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: (1) Nadine Leisz, Chief, National Program Center, Land Resources Division, National Park Service, U.S. Department of the Interior, 1849 C Street NW, Washington, DC 20240, Nadine_Leisz@nps.gov or (202) 354-6961; or (2) Felix Uribe, Associate Privacy Officer, National Park Service, 12201 Sunrise Valley Drive, Reston, VA 20192, nps_privacy@nps.gov or (202) 354-6925.

SUPPLEMENTARY INFORMATION: Pursuant to the provisions of the Privacy Act of 1974, as amended, 5 U.S.C. 552a, the NPS is rescinding the INTERIOR/NPS-3, Land Acquisition Management Information System and Master Deed Listing, system of records notice (SORN) and removing it from its system of records inventory. During a review of NPS SORNs, NPS determined that the NPS-3 SORN was written to describe a database that has been decommissioned and no longer exists. The land acquisition management records previously maintained within this system are covered by the INTERIOR/NPS-2, Land Acquisition and Relocation Files, SORN which includes records of owners and tenants of land within National Parks. A revised INTERIOR/NPS-2 SORN will be published separately in the Federal Register to cover all land resources records. This rescindment will eliminate an unnecessary duplicate notice and ensure compliance with the Privacy Act of 1974 and the Office of Management and Budget (OMB) Circular A-108, Federal Agency Responsibilities for Review, Reporting, and Publication under the Privacy Act.

Rescinding the INTERIOR/NPS-3, Land Acquisition Management Information System and Master Deed Listing, SORN will have no adverse impacts on individuals as the records are covered under INTERIOR/NPS-2, Land Acquisition and Relocation Files. This rescindment will also promote the overall streamlining and management of DOI Privacy Act systems of records.

SYSTEM NAME AND NUMBER:

INTERIOR/NPS-3, Land Acquisition Management Information System and Master Deed Listing.

HISTORY:

64 FR 61936 (November 15, 1999); modification published 73 FR 63992 (October 28, 2008).

Teri Barnett,
Departmental Privacy Officer, Department of the Interior.

[FR Doc. 2021-24036 Filed 11-3-21; 8:45 am]

BILLING CODE 4312-52-P